Proclamation 9000 of July 25, 2013

National Korean War Veterans Armistice Day, 2013

By the President of the United States of America

A Proclamation

Today, America pauses to observe the 60th anniversary of the end of the Korean War—a conflict that defined a generation and decided the fate of a nation. We remember the troops who hit the beaches when Communist forces were pressing south; who pushed back, and fought their way north through hard mountains and bitter cold. We remember ordinary men and women who showed extraordinary courage through 3 long years of war, fighting far from home to defend a country they never knew and a people they never met.

Most of all, we remember those brave Americans who gave until they had nothing left to give. No monument will ever be worthy of their service, and no memorial will fully heal the ache of their sacrifice. But as a grateful Nation, we must honor them—not just with words, but with deeds. We must uphold our sacred obligation to all who serve—giving our troops the resources they need, keeping faith with our veterans and their families, and never giving up the search for our missing and our prisoners of war. Our fallen laid down their lives so we could live ours. It is our task to live up to the example they set, and make America a country worthy of their sacrifice.

This anniversary marks the end of a war. But it also commemorates the beginning of a long and prosperous peace. In six decades, the Republic of Korea has become one of the world's largest economies and one of America's closest allies. Together, we have built a partnership that remains a bedrock of stability throughout the Pacific. That legacy belongs to the service members who fought for freedom 60 years ago, and the men and women who preserve it today.

So as we mark this milestone, let us offer a special salute to our Korean War veterans. Let us renew the sacred trust we share with all who have served. And let us reaffirm that no matter what the future holds, America will always honor its promise to serve our veterans as well as they served us—now and forever.

NOW, THEREFORE, I, BARACK OBAMA, President of the United States of America, by virtue of the authority vested in me by the Constitution and the laws of the United States, do hereby proclaim July 27, 2013, as National Korean War Veterans Armistice Day. I call upon all Americans to observe this day with appropriate ceremonies and activities that honor our distinguished Korean War veterans.

IN WITNESS WHEREOF, I have hereunto set my hand this twenty-fifth day of July, in the year of our Lord two thousand thirteen, and of the Independence of the United States of America the two hundred and thirty-eighth.

[FR Doc. 2013-18540

Filed 7-30-13; 8:45 am]

Billing code 3295-F3